LIBRARY OF CONGRESS

Copyright Royalty Board

[Docket No. 15-CRB-0011 DART (SRF/CO) (2014)]

Distribution of 2014 DART Sound Recordings Fund Royalties (Copyright Owners and Featured Artists Subfunds)

AGENCY: Copyright Royalty Board, Library of Congress.

ACTION: Notice soliciting comments on motion for partial distribution.

SUMMARY: The Copyright Royalty Judges solicit comments on a motion for partial distribution in connection with 2014 DART Sound Recordings Fund royalties.

DATES: Comments are due on or before December 2, 2015.

ADDRESSES: This Notice is also posted on the agency's Web site (www.loc.gov/crb). Submit comments via email to crb@loc.gov. See the SUPPLEMENTARY INFORMATION section below for instructions on submitting comments in other formats.

FOR FURTHER INFORMATION CONTACT: LaKeshia Keys, Program Specialist, by telephone at (202) 707-7658 or email at crb@loc.gov.

SUPPLEMENTARY INFORMATION: On July 23, 2015, the Alliance of Artists and Recording Companies (AARC), on behalf of itself and claimants with which it has reached settlements (Settling Claimants) filed with the Copyright Royalty Judges (Judges) a Notice of Settlement and Request for Partial Distribution of the 2014 DART Sound Recordings Fund Featured Recording Artists and Copyright Owners Subfunds Royalties (Notice and Request). In the Notice and Request, AARC states that the Settling Claimants have agreed among themselves concerning distribution of the 2014 DART Sound Recordings Fund royalties from two subfunds: Copyright Owners and Featured Recording Artists.

With respect to the Featured Recording Artists Subfund, AARC represents that it has reached settlements with all but one claimant (Herman Kelly) for that subfund and that the nonsettling claimant has unit sales totaling 1,287 in a universe of over one billion claimants' sound recordings sold in 2014. Notice and Request at 2.

With respect to the Copyright Owners Subfund, AARC represents that it had reached settlements with all but four claimants (Dr. Dwight Sanders, Eric Burns, Tajai Music, Inc., and Afterschool Publishing Company (APC), which is affiliated with Herman Kelly). The Judges have since dismissed the claims of Dr. Sanders and Mr. Burns. Order Dismissing Claims of Burns and Sanders (Sept. 11, 2015). AARC represents that the nonsettling parties have combined record sales of 794,469 units in a universe of nearly one billion record sales for 2014. Notice and Request at 2.¹

¹ For his part, on August 7, 2015, Mr. Kelly filed a Settlement Proposal Offer and Request on behalf of himself and APC, in which Mr. Kelly appears willing to stipulate to the sales figure that AARC asserts is attributable to Mr. Kelly and APC. Mr. Kelly requests a “proper equal share of any amounts from the 2014 funds.” Although the Copyright Royalty Board (CRB) has accepted Mr. Kelly's filings to date to the extent that Mr. Kelly is petitioning on his own behalf, CRB Rule 350.2 requires that all parties other than individuals “must be represented by an attorney.” 37 CFR 350.2. Therefore, going forward, individual claimants may continue to represent their own interests before the CRB, but they may not represent the interests of other claimants or groups of claimants without a licensed attorney. The CRB Web site provides the names and contact information of licensed attorneys that have stated their willingness to represent pro se claimants free of charge.

AARC requests a partial distribution of 98% from the Copyright Owners Subfund and an equal percentage from the Featured Recording Artists Subfund pursuant to Section 801(b)(3)(C) of the Copyright Act. Under that section of the Copyright Act, before ruling on a partial distribution motion the Judges must publish a notice in the Federal Register seeking responses to the motion to ascertain whether any claimant entitled to receive such royalty fees has a reasonable objection to the proposed distribution. 17 U.S.C. 801(b)(3)(C). Consequently, this Notice seeks comments from interested claimants on whether any reasonable objection exists that would preclude the distribution from the 2014 DART Sound Recordings Fund of 98% of the royalties in the Featured Recording Artists Subfund and 98% of the royalties in the Copyright Owners Subfund to the Settling Claimants. Any party wishing to advise the Judges of the existence and extent of an objection must do so, in writing, by the end of the comment period. The Judges will not consider any objections to the partial distribution motion that are raised after the close of that period.

How To Submit Comments

Interested claimants must submit comments to only one of the following addresses. Unless responding by email or online, claimants must submit an original, five paper copies, and an electronic version on a CD.

Email: crb@loc.gov; or

Online: Use the Federal eRulemaking Portal “Regulations.gov” at: http://www.regulations.gov.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE. and D Street NE., Washington, DC; or

Hand delivery: Library of Congress, James Madison Memorial Building, LM-401, 101 Independence Avenue SE., Washington, DC 20559-6000.

Dated: October 26, 2015.
Suzanne M. Barnett,
Chief U.S. Copyright Royalty Judge.

[FR Doc. 2015-27645 Filed 10-30-15; 8:45 am]

BILLING CODE 1410-72-P